DEPARTMENT OF EDUCATION

[Docket No.: ED-2022-SCC-0123]

Agency Information Collection Activities; Comment Request; Liquidation Extension Request Template

AGENCY: Office of Elementary and Secondary Education (OESE), Department of Education (ED).

ACTION: Notice.

SUMMARY: In accordance with the Paperwork Reduction Act of 1995, ED is requesting the Office of Management and Budget (OMB) to conduct an emergency review of a new information collection.

DATES: The Department requested emergency approval for this information collection request; and therefore, the regular clearance process is hereby being initiated to provide the public with the opportunity to comment under the full comment period. Interested persons are invited to submit comments on or before December 6, 2022.

ADDRESSES: To access and review all the documents related to the information collection listed in this notice, please use http://www.regulations.gov by searching the Docket ID number ED-2022-SCC-0123. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance Governance and Strategy Division, U.S. Department of Education, 400 Maryland Ave. SW, LBJ, Room 6W208D, Washington, DC 20202-4537.

FOR FURTHER INFORMATION CONTACT: For specific questions related to collection activities, please contact Jennifer Timmons, (202)-987-1295.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Liquidation Extension Request Template.

OMB Control Number: 1810-0771.

Type of Review: Extension without change of a currently approved collection.

Respondents/Affected Public: State, Local, and Tribal Governments Total Estimated Number of Annual Responses: 104.

Total Estimated Number of Annual Burden Hours: 2,080.

Abstract: This is a request for approval for an extension of the OMB approved 1810-0771 collection by the Office of State and Grantee Relations (SGR) in the Office of Elementary and Secondary Education (OESE) at the U.S. Department of Education (ED) for the Elementary and Secondary School Education Relief (ESSER) fund and the Governor's Emergency Education Relief (GEER) fund authorized by the Coronavirus Aid, Relief and Economic Security Act of 2020, Public Law 116-136, Coronavirus Aid, Relief, and Economic Security Act (CARES Act). The CARES-ESSER (ALN 84.425D) program is a $13 billion formula grant program allocated to State educational agencies (SEA) for use in responding to and recovering from the COVID-19 pandemic. The CARES-GEER (ALN 84.425C) program is a $2.9 billion formula grant program allocated to Governors for the purpose of providing local educational agencies (LEAs), institutions of higher education (IHEs), and other education related entities with emergency assistance to address the impact of the coronavirus pandemic. A liquidation extension request will be required in order for an SEA or Governor's office to receive approval to liquidate funds beyond the 120-day liquidation period following the period of availability of September 30, 2022. The Department will use the grantee's request to review and recommend approval for a liquidation extension request.

Dated: October 4, 2022.
Kun Mullan,
PRA Coordinator, Strategic Collections and Clearance, Governance and Strategy Division, Office of Chief Data Officer, Office of Planning, Evaluation and Policy Development.

[FR Doc. 2022-21897 Filed 10-6-22; 8:45 am]

BILLING CODE 4000-01-P